DEPARTMENT OF COMMERCE

International Trade Administration

[A-533-857; A-580-870; A-489-816; A-552-817]

Certain Oil Country Tubular Goods From India, the Republic of Korea, Turkey, and the Socialist Republic of Vietnam: Final Results of Expedited First Sunset Reviews of the Antidumping Duty Orders

AGENCY: Enforcement and Compliance, International Trade Administration, Department of Commerce.

DATES: Applicable March 4, 2020.

SUMMARY: As a result of these sunset reviews, the Department of Commerce (Commerce) finds that revocation of the antidumping duty orders on certain oil country tubular goods (OCTG) from India, the Republic of Korea (Korea), the Republic of Turkey (Turkey), and the Socialist Republic of Vietnam (Vietnam) would be likely to lead to continuation or recurrence of dumping. The magnitude of the dumping margins likely to prevail are indicated in the “Final Results of Sunset Review” section of this notice.

FOR FURTHER INFORMATION CONTACT: Chelsey Simonovich, AD/CVD Operations, Office VI, Enforcement and Compliance, U.S. Department of Commerce, 1401 Constitution Avenue NW, Washington, DC 20230; telephone (202) 482-1979.

SUPPLEMENTARY INFORMATION:

Background

In 2014, Commerce published in the Federal Register its final affirmative determinations of sales at less than fair value with respect to imports of certain OCTG from India, Korea, Turkey, and Vietnam.¹ On June 4, 2019, Commerce published the notice of initiation of the sunset reviews of the AD Orders on OCTG from India, Korea, Turkey, and Vietnam.²

¹ See Final Determination of Sales at Less Than Fair Value and Final Negative Determination of Critical Circumstances: Certain Oil Country Tubular Goods from India, 79 FR 41981 (July 18, 2014); Certain Oil Country Tubular Goods from the Republic of Korea: Final Determination of Sales at Less Than Fair Value and Negative Final Determination of Critical Circumstances, 79 FR 41983 (July 18, 2014); Certain Oil Country Tubular Goods from the Republic of Turkey: Final Determination of Sales at Less Than Fair Value and Affirmative Final Determination of Critical Circumstances, in Part, 79 FR 41971 (July 18, 2014); Certain Oil Country Tubular Goods from the Socialist Republic of Vietnam: Final Determination of Sales at Less Than Fair Value and Final Affirmative Determination of Critical Circumstances, 79 FR 41973 (July 18, 2014).

² See Initiation of Five-Year (Sunset) Reviews, 84 FR 25741 (June 4, 2019).

On July 3, 2019, Commerce received complete substantive responses to the notices of initiation from domestic interested parties within the 30-day deadline specified in 19 CFR 351.218(d)(3)(i).³ Commerce received no substantive responses from respondent interested parties. As a result, Commerce conducted an expedited, i.e., 120-day, sunset review of these AD Orders pursuant to section 751(c)(3)(B) of the Act and 19 CFR 351.218(e)(1)(ii)(C)(2).

³ See Petitioners' Letters, “Oil Country Tubular Goods from India: Substantive Response of the Domestic Industry to Commerce's Notice of Initiation of Five-Year (“Sunset”) Reviews” (Petitioners' Substantive Response for India); “Oil Country Tubular Goods from South Korea: Substantive Response to Notice of Initiation” (Petitioners' Substantive Response for Korea); “Oil Country Tubular Goods from Turkey: Substantive Response of the Domestic Industry to Commerce's Notice of Initiation of Five-Year (“Sunset”) Reviews” (Petitioners' Substantive Response for Turkey); and “Oil Country Tubular Goods from Vietnam: Substantive Response of the Domestic Industry to Commerce's Notice of Initiation of Five-Year (“Sunset”) Reviews” (Petitioners' Substantive Response for Vietnam), each dated July 3, 2019.

Scope of the Orders

The merchandise subject to the AD Orders is certain OCTG. For a complete description of the products covered, see the Issues and Decision Memorandum.⁴

⁴ See Memorandum, “Issues and Decision Memorandum: Final Results of Expedited Sunset Reviews of the Antidumping Duty Orders on Certain Oil Country Tubular Goods from India, the Republic of Korea, the Republic of Turkey, and the Socialist Republic of Vietnam,” dated concurrently with, and hereby adopted by this notice (Issues and Decision Memorandum).

Analysis of Comments Received

All issues raised in these reviews are addressed in the Issues and Decision Memorandum, including the likelihood of continuation or recurrence of dumping in the event of revocation, and the magnitude of dumping margins likely to prevail if the orders were revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov and is available to all parties in the Central Records Unit in Room B8024 of the main Commerce building. A list of the topics discussed in the Issues and Decision Memorandum is attached to this notice as an Appendix. In addition, a complete version of the Issues and Decision Memorandum can be accessed directly on the internet at http://trade.gov/enforcement/. The signed and electronic versions of the Decision Memorandum are identical in content.

Final Results of Sunset Review

Pursuant to sections 751(c)(1), 752(c)(1) and (3) of the Act, Commerce determines that revocation of the antidumping duty orders on OCTG from India, Korea, Turkey, and Vietnam would be likely to lead to continuation or recurrence of dumping, and that the magnitude of the dumping margins likely to prevail would be weighted-average margins up to 11.24 percent for India, 6.49 percent for Korea, 35.86 percent for Turkey, and 111.47 percent for Vietnam.

Notification to Interested Parties

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction. We are issuing and publishing these results and notice in accordance with sections 751(c), 752(c), and 777(i)(1) of the Act and 19 CFR 351.218.

Dated: October 2, 2019.
P. Lee Smith,
Deputy Assistant Secretary for Policy and Negotiations Enforcement and Compliance.

Appendix

List of Topics Discussed in the Issues and Decision Memorandum

I. Summary

II. Background

III. Scope of the AD Orders

IV. History of the Orders

V. Legal Framework

VI. Discussion of the Issues

VII. Final Results of the Review

VIII. Recommendation

[FR Doc. 2020-04395 Filed 3-3-20; 8:45 am]

BILLING CODE 3510-DS-P